DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 2 individuals whose property and interests in property are blocked pursuant to Executive Order 13224 of September 23, 2001, “Blocking Property and Prohibiting Transactions With Persons Who Commit, Threaten To Commit, or Support Terrorism.”

DATES: OFAC's actions described in this notice were effective on September 15, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On September 15, 2016, OFAC blocked the property and interests in property of the following 2 individuals pursuant to E.O. 13224, “Blocking Property and Prohibiting Transactions With Persons Who Commit, Threaten To Commit, or Support Terrorism”:

Individuals

1. JAMOUS, Hussam (a.k.a. AL-JAMUS, Umar; a.k.a. DA JAMOUS, Hussam; a.k.a. KHATTAB, Omar), Antakya, Hatay, Turkey; DOB 08 Jan 1983; alt. DOB 01 Aug 1983; Passport N006951090 (Syria); National ID No. 00413L0105232 (individual) [SDGT] (Linked To: ISLAMIC STATE OF IRAQ AND THE LEVANT).

2. ALHMIDAN, Mohamad Alsaied (a.k.a. AL HAMIDAN, Mohamad Alsaied; a.k.a. ALHEMEDAN, Mohamad Alsaeed; a.k.a. ALHMEDAN, Mohamad Alsaeed; a.k.a. ALHMIDAN, Mohamad; a.k.a. ALUOALII, Mohamad; a.k.a. ALWAKIE, Mohamad; a.k.a. AYSSA, Walid), Turkey; DOB 20 Feb 1976; alt. DOB 13 Feb 1975; alt. DOB 07 Jan 1977; alt. DOB 15 Feb 1976; Passport N010084435 (Syria); Identification Number N002595610 (Syria); alt. Identification Number 00407L012704 (Syria); alt. Identification Number N0097000224 (Syria); alt. Identification Number L07521 (Syria); (individual) [SDGT] (Linked To: ISLAMIC STATE OF IRAQ AND THE LEVANT).

Dated: September 15, 2016.
John E. Smith,
Acting Director, Office of Foreign Assets Control.

[FR Doc. 2016-22607 Filed 9-19-16; 8:45 am]

BILLING CODE P